DEPARTMENT OF EDUCATION

Models of Exemplary, Effective, and Promising Alcohol or Other Drug Abuse Prevention Programs on College Campuses

AGENCY: Office of Safe and Drug-Free Schools, Department of Education.

ACTION: Notice of proposed priority, definitions, requirements, and selection criteria.

SUMMARY: The Assistant Deputy Secretary for Safe and Drug-Free Schools proposes a priority, definitions, requirements, and selection criteria under the Models of Exemplary, Effective, and Promising Alcohol or Other Drug Abuse Prevention Programs on College Campuses grant competition. The Assistant Deputy Secretary may use the priority, definitions, requirements, and selection criteria for competitions in fiscal year (FY) 2008 and later years. The Assistant Deputy Secretary intends to use the priority, definitions, requirements, and selection criteria to identify exemplary, effective, and promising campus-based alcohol or other drug abuse prevention programs and to disseminate information about exemplary and effective programs to other colleges and universities where similar efforts may be adopted.

DATES: We must receive your comments on or before January 25, 2008.

ADDRESSES: Address all comments about the proposed priority, definitions, requirements, and selection criteria to Richard Lucey, Jr., U.S. Department of Education, 400 Maryland Avenue, SW., Room 3E335, Washington, DC 20202-6450. If you prefer to send your comments through the Internet, use the following address: richard.lucey@ed.gov.

You must include the phrase “Models of Exemplary, Effective, and Promising Alcohol or Other Drug Abuse Prevention Programs on College Campuses—Comments on FY 2008 Proposed Priority” in the subject line of your electronic message.

FOR FURTHER INFORMATION CONTACT: Richard Lucey, Jr. (202) 205-5471 or via Internet: richard.lucey@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding the proposed priority, definitions, requirements, and selection criteria. To ensure that your comments have maximum effect in developing the notice of final priority, definitions, requirements, and selection criteria, we urge you to identify clearly the specific proposed priority, definitions, requirements, or selection criterion your comment addresses.

We invite you to assist us in complying with the specific requirements of Executive Order 12866 and its overall requirement of reducing regulatory burden that might result from the proposed priority, definitions, requirements, and selection criteria. Please let us know of any further opportunities we should take to reduce potential costs or increase potential benefits while preserving the effective and efficient administration of the program.

During and after the comment period, you may inspect all public comments about the proposed priority, definitions, requirements, and selection criteria in room 3E335, 400 Maryland Avenue, SW., Washington, DC, between the hours of 8:30 a.m. and 4 p.m., Eastern Time, Monday through Friday of each week except Federal holidays.

Assistance to Individuals With Disabilities in Reviewing the Rulemaking Record

On request, we will supply an appropriate aid, such as a reader or print magnifier, to an individual with a disability who needs assistance to review the comments or other documents in the public rulemaking record for this proposed priority, definitions, requirements, and selection criteria. If you want to schedule an appointment for this type of aid, please contact the person listed under FOR FURTHER INFORMATION CONTACT.

Proposed Priority, Definitions, Requirements, and Selection Criteria

We will announce the final priority, definitions, requirements, and selection criteria in a notice in the Federal Register after considering responses to this notice and other information available to the Department. This notice does not preclude us from proposing or funding additional priorities, definitions, requirements, and selection criteria, subject to meeting applicable rulemaking requirements.

Note: This notice does not solicit applications. In any year in which we choose to use this proposed priority, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Discussion of Proposed Priority

Proposed Priority—Exemplary, Effective, and Promising Alcohol or Other Drug Abuse Prevention Programs on College Campuses

Background

Alcohol and other drug abuse among college students contributes to a number of academic, social, and health-related problems. According to recent findings from the Monitoring the Future National Survey Results on Drug Use, 1975-2006, in 2006, approximately 40 percent of the Nation's college students engaged in heavy drinking (defined as five or more drinks in a row in the past two weeks). In addition, 34 percent of college students used an illicit drug in 2006.

Survey data from the Core Institute, located at Southern Illinois University Carbondale, also illustrate the consequences of student drinking. For example, in 2006, as a result of drinking in the year prior to the survey, more than 32 percent of students reported that they had gotten into an argument or fight; 27 percent drove a car while under the influence; approximately 30 percent missed a class; and almost 16 percent were hurt or injured. Given these statistics, there is a national need to identify exemplary, effective, and promising programs that reduce alcohol and other drug abuse among college students.

Proposed Priority: Under this proposed priority the Department would provide funding to institutions of higher education (IHEs) that have implemented an exemplary, effective, or promising alcohol or other drug abuse prevention program on their campus. In its application, an applicant must:

1. Describe the program that has for at least two full years been implemented on its campus, including the structure and content of the program, the student population that is targeted by the program, and any unique features of the program;

2. Provide a detailed theoretical basis for the program's effectiveness;

3. Provide data to demonstrate the program's impact on the target student population, including evidence of cognitive or behavioral changes, or both, among the target population; and

4. Consent to a site visit to clarify information in the application and verify evaluation data.

Under this program, the Department selects an institution of higher education for recognition as having an exemplary, effective, or promising program based on the recommendation from the two peer reviewers who conduct the site visit. Therefore, note that selection for a site visit does not ensure recognition as an exemplary, effective, or promising program by the Department.

Recognition Types: Contingent upon the quality of data provided by the applicant and the recommendation of site visitors, an applicant may earn one of three levels of recognition.

Level 1 is recognition as an exemplary program. An IHE whose program is designated as exemplary must:

1. Within 30 days of receiving an award, provide to the Department a plan to disseminate information about its program to other IHEs;

2. Upon approval by the Department, implement its dissemination plan; and

3. Enhance and further evaluate the exemplary program during the project period of the grant award.

Level 2 is recognition as an effective program. An IHE whose program is designated as effective must:

1. Within 30 days of receiving an award, provide to the Department a plan to disseminate information about its program to other IHEs;

2. Upon approval by the Department, implement its dissemination plan; and

3. Enhance and further evaluate the effective program during the project period of the grant award.

Level 3 is designation as a promising program. An IHE whose program is recognized as promising must:

1. Within 30 days of receiving an award submit to the Department a plan to enhance and further evaluate its program;

2. Upon approval by the Department, implement its enhancement and evaluation plan; and

3. Within 12 months of award provide to the Department a report detailing the results of its evaluation.

Discussion of Proposed Definitions

Proposed Definitions

Three important terms associated with this competition are not defined in section 4121 of the Elementary and Secondary Education Act of 1965, as amended by the No Child Left Behind Act of 2001. We propose the following definitions:

1. Exemplary program means a program that has a strong theoretical base and demonstrated effectiveness in reducing alcohol or other drug abuse among college students or reducing problems resulting from alcohol or other drug use among college students, using a research design of the highest quality. For the purpose of this grant competition, a research design of the highest quality means an experimental design in which students are randomly assigned to participate in a project being evaluated (treatment group) or not participate in the project (control group). The effect of the project is the difference in outcomes between the treatment and control groups.

If strong, experimentally determined evidence of the effectiveness of a program already exists, and the program was implemented on the applicant's campus with fidelity to the research, then a quasi-experimental evaluation of the program's implementation on the applicant's campus may be an acceptable research design. For the purpose of this grant competition, quasi-experimental designs include several designs that attempt to approximate a random assignment design.

2. Effective program means a program that has a strong theoretical base and has been evaluated using either an experimental or quasi-experimental research design, with the evaluation results suggesting effectiveness in reducing alcohol or other drug abuse among college students, reducing problems resulting from alcohol or other drug use among college students, reducing risk factors, enhancing protective factors, or resulting in some combination of those impacts.

3. Promising program means a program that has a strong theoretical base and for which evidence has been obtained, using limited research methods, that the program may reduce alcohol or other drug abuse among college students, reduce problems resulting from alcohol or other drug use among college students, reduce risk factors, enhance protective factors, or result in some combination of those impacts. For the purpose of this grant competition, limited research methods are methods that include a pre- and post-treatment measurement of the effects of a treatment on a single subject or group of single subjects.

Discussion of Proposed Requirements

Background

Applicants from prior competitions under this grant program and former grantees under this grant program have suggested that we clarify or modify certain application requirements. These include: Eligible applicants, limitations on eligibility, and funding limits for applicants.

We have carefully considered this input, and propose several new or modified program requirements. First, because the purpose of this grant program is to identify models of exemplary, effective, and promising alcohol or other drug abuse prevention programs on college campuses, we propose to limit the pool of eligible applicants to IHEs that offer an associate or baccalaureate degree, which is consistent with the eligibility restriction under the former Alcohol and Other Drug Prevention Models on College Campuses grant program.

We also propose to establish a limitation on eligibility for IHEs that are recognized for having an exemplary or effective program. Under the former Alcohol and Other Drug Prevention Models on College Campuses Grant Competition published in the Federal Register on February 5, 2007 (72 FR 5279), IHEs that received an award were ineligible to apply for another award for a period of five fiscal years. We believe that a five-year prohibition on eligibility may contribute to an unnecessary decrease in the number of quality applications submitted for funding consideration. Therefore, we propose to shorten or eliminate this prohibition, depending on the category of program.

Finally, we propose to limit the amount of funds available to an applicant that is recognized as having an exemplary, effective, or promising program. We believe that the identified maximum amounts are sufficient to cover project-related expenses during the grant period.

Accordingly we propose the following requirements:

Proposed Requirement 1: Eligible Applicants

Only IHEs that offer an associate or baccalaureate degree will be eligible under this program.

Proposed Requirement 2: Limitations on Eligibility

(a) Exemplary or effective programs. The length of time an IHE is ineligible for a subsequent award after receiving recognition for an exemplary or effective program is three years.

(b) Promising programs. Programs recognized as promising may be eligible for a new award when their current grant is no longer active. A grant is considered active until the end of the grant's project or funding period, including any extensions of those periods that extend the grantee's authority to obligate funds. A project that fails to achieve exemplary or effective status after a second designation as a promising program may not reapply for three years after its second project period is no longer active.

Proposed Requirement 3: Funding Limits for Applicants

The maximum amount an applicant may receive for a project recognized as an exemplary or effective program may be no more than $150,000 plus indirect costs, and a project recognized as a promising program may receive no more than $100,000 plus indirect costs.

Discussion of Proposed Selection Criteria

Background

Since the original Alcohol and Other Drug Prevention Models on College Campuses Grant Competition in FY 1999, six additional competitions have been held (FY 2000, 2001, 2004, 2005, 2006, and 2007). Our experience with administering these competitions, including feedback from peer reviewers, applicants, and funded grantees, demonstrates the need to use program-specific selection criteria to better identify applications for funding and recognition as an exemplary, effective, or promising program. We believe these refinements will contribute to our ongoing efforts to improve this grant program.

Proposed Selection Criteria

We propose the following selection criteria for this program:

1. Significance

(a) The potential contribution of the program to the development and advancement of theory, knowledge, and practices in the field of study.

(b) The quality of the applicant's plan to disseminate the program in ways that will enable others to use the information or strategies, including evidence of the program's readiness for replication.

2. Project Design

(a) The extent to which the design of the program reflects up-to-date knowledge from research and effective practices.

(b) The extent to which the plan to enhance the program reflects up-to-date knowledge from research and effective practices.

(c) The extent to which the goals, objectives, and outcomes to be achieved by the enhancement to the program are clearly specified and measurable.

3. Project Evaluation

(a) The extent to which the evaluation data provide evidence of the effectiveness of the program in reducing alcohol or other drug use, or both, reducing problems resulting from alcohol or other drug use, or both, reducing risk factors, enhancing protective factors, or some combination of those impacts.

(b) The extent to which the methods of evaluation used during the implementation of the program will provide guidance about effective strategies suitable for replication or testing in other settings.

(c) The extent to which the methods of evaluation used during the enhancement of the program will provide performance feedback and permit periodic assessment of progress toward achieving intended outcomes.

Executive Order 12866

This notice of proposed priority, definitions, requirements, and selection criteria has been reviewed in accordance with Executive Order 12866. Under the terms of the order, we have assessed the potential costs and benefits of this regulatory action.

The potential costs associated with the notice of proposed priority, definitions, requirements, and selection criteria are those resulting from statutory requirements and those we have determined as necessary for administering this program effectively and efficiently.

In assessing the potential costs and benefits—both quantitative and qualitative—of this notice of proposed priority, definitions, requirements, and selection criteria, we have determined that the benefits of the proposed priority, definitions, requirements, and selection criteria justify the costs.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You can also view this document in text at the following site: http://www.ed.gov/programs/dvpcollege/applicant.html.

Note: The official version of this document is the document published in the Federal Register. Free Internet access to the official edition of the Federal Register and the Code of Federal Regulations is available on GPO Access at: http://www.gpoaccess.gov/nara/index.html.

(Catalog of Federal Domestic Assistance Number: 84.184N Office of Safe and Drug-Free Schools—Models of Effective and Promising Alcohol and Other Drug Abuse Prevention Programs on College Campuses)

Program Authority: 20 U.S.C. 7131.

Dated: December 19, 2007.
Deborah A. Price,
Assistant Deputy Secretary for Safe and Drug-Free Schools.

[FR Doc. E7-24954 Filed 12-21-07; 8:45 am]

BILLING CODE 4000-01-P